DEPARTMENT OF DEFENSE

Office of the Secretary

Renewal of Department of Defense Federal Advisory Committees

AGENCY: DoD.

ACTION: Re-establishment of Federal Advisory Committee.

SUMMARY: Under the provisions of the Federal Advisory Committee Act of 1972 (5 U.S.C. Appendix), the Government in the Sunshine Act of 1976 (5 U.S.C. 552b), and 41 CFR 102-3.50(d), the Department of Defense gives notice that it is re-establishing the charter for the Department of Defense Historical Advisory Committee (hereafter referred to as “the Committee”).

The Department of Defense Historical Advisory Committee is a discretionary Federal advisory committee, established to provide the Secretary of Defense and the Secretaries of the Military Departments, independent advice and recommendations on matters regarding the professional standards, historical methodology, program priorities, liaison with professional groups and institutions, and adequacy of resources of the various historical programs and associated activities of the Department of Defense.

The Committee shall report to the Secretary of Defense and the Secretaries of the Military Departments. The Secretary of Defense and/or the Secretaries of the Military Departments or their designated representatives may act upon the Committee's advice and recommendations.

The Committee shall be comprised of no more than six members, who are Historians for the Office of the Secretary of Defense, the Office of the Chairman of the Joint Chiefs of Staff, and the Military Services. All six members of the parent Committee are ex-officio members. Committee members shall be appointed by the Secretary of Defense, with annual renewals. The Historian for the Office of the Secretary of Defense shall serve as the Committee's Chairperson.

Committee members shall serve without compensation, except for travel and per diem for official Committee-related travel.

The Department, when necessary, and consistent with the Committee's mission and DoD policies and procedures may establish subcommittees, task groups, or working groups deemed necessary to support the Committee. Establishment of subcommittees will be based upon a written determination, to include terms of reference, by the Secretary of Defense, the Deputy Secretary of Defense, or the Committee's sponsor.

The Committee has established two permanent subcommittees:

a. The Department of the Army Historical Advisory subcommittee shall be comprised of no more than 14 members. The primary focus of the subcommittee is to provide, through the parent committee, the U.S. Army Chief of Military History, the Chief of Staff of the Army, and the Secretary of the Army with advice and counsel regarding: (1) The conformity of the Army's historical work and methods with professional standards, (2) ways to increase cooperation between the historical and military professions in advancing the purpose of the Army Historical Program, (3) approval of the annual Army Historical Program report, and (4) the furtherance of the mission of the U.S. Army Center of Military History to promote the study and use of military history in both civilian and military schools. The ex-officio members of the subcommittee represent the U.S. Military Academy, the U.S. Army Training and Doctrine Command, the U.S. Army War College, the U.S. Army Command and General Staff College, the U.S. Army Combined Arms Command, the Archivist of the Army, and the National Archives and Records Administration. The subcommittee will meet once annually, at a minimum.

b. The Secretary of the Navy's Advisory Subcommittee on Naval History shall be comprised of no more than 15 members. Its primary focus is the activities and programs of the U.S. Navy History and Heritage Command, and its members are expected to offer broad managerial experience or vision coupled with an understanding of elements of military and maritime history, archives, museums, art, library science or information technology. The subcommittee will meet once annually, at a minimum.

These subcommittees shall not work independently of the chartered Committee, and shall report all of their recommendations and advice to the Committee for full deliberation and discussion. Subcommittees have no authority to make decisions on behalf of the chartered Committee; nor can any subcommittees or any of its members update or report directly to the DoD or any Federal officers or employees.

The Secretary of Defense shall appoint subcommittee members even if the member in question is already a Committee member. Subcommittee members, with the approval of the Secretary of Defense, may serve a term of service on the subcommittee of one to four years; however, no member shall serve more than two consecutive terms of service on the subcommittee.

Subcommittee members, if not full-time or permanent part-time government employees, shall be appointed by the Secretary of Defense to serve as experts and consultants under the authority of 5 U.S.C. 3109, and serve as special government employees, and their appointments must be renewed by the Secretary of Defense on an annual basis. With the exception of travel and per diem for official travel, subcommittee members shall serve without compensation.

All subcommittees operate under the provisions of the FACA, the Government in the Sunshine Act, governing Federal statutes and regulations, and governing DoD policies/procedures.

FOR FURTHER INFORMATION CONTACT: Jim Freeman, Advisory Committee Management Officer for the Department of Defense, 703-692-5952.

SUPPLEMENTARY INFORMATION: The Committee shall meet at the call of the Committee's Designated Federal Officer, in consultation with the Chairperson. The estimated number of Committee meetings is one per year.

In addition, the Designated Federal Officer is required to be in attendance at all Committee and subcommittee meetings for the entire duration of each and every meeting; however, in the absence of the Designated Federal Officer, the Alternate Designated Federal Officer shall attend the entire duration of the Committee or subcommittee meeting.

Pursuant to 41 CFR 102-3.105(j) and 102-3.140, the public or interested organizations may submit written statements to Department of Defense Historical Advisory Committee's membership about the Committee's mission and functions. Written statements may be submitted at any time or in response to the stated agenda of planned meeting of Department of Defense Historical Advisory Committee.

All written statements shall be submitted to the Designated Federal Officer for the Department of Defense Historical Advisory Committee, and this individual will ensure that the written statements are provided to the membership for their consideration. Contact information for the Department of Defense Historical Advisory Committee Designated Federal Officer can be obtained from the GSA's FACA Database— https://www.fido.gov/facadatabase/public.asp.

The Designated Federal Officer, pursuant to 41 CFR 102-3.150, will announce planned meetings of the Department of Defense Historical Advisory Committee. The Designated Federal Officer, at that time, may provide additional guidance on the submission of written statements that are in response to the stated agenda for the planned meeting in question.

Dated: May 2, 2012.
Aaron Siegel,
Alternate OSD Federal Register Liaison Officer, Department of Defense.

[FR Doc. 2012-10991 Filed 5-7-12; 8:45 am]

BILLING CODE 5001-06-P